DEPARTMENT OF HOMELAND SECURITY

Federal Emergency Management Agency

44 CFR Part 67

[Docket ID FEMA-2011-0002; Internal Agency Docket No. FEMA-B-1198]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 20, 2011.

ADDRESSES: The corresponding preliminary Flood Insurance Rate Map (FIRM) for the proposed BFEs for each community is available for inspection at the community's map repository. The respective addresses are listed in the table below.

You may submit comments, identified by Docket No. FEMA-B-1198, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | *Elevation in feet (NGVD) + Elevation in feet (NAVD) # Depth in feet above ground ‸ Elevation in meters (MSL): Existing | *Elevation in feet (NGVD) + Elevation in feet (NAVD) # Depth in feet above ground ‸ Elevation in meters (MSL): Modified
City of Colonial Heights, Virginia
Virginia | City of Colonial Heights | Old Town Creek | Approximately 0.63 mile downstream of Conduit Road | + 10 | + 11
|  |  | Approximately 0.48 mile upstream of the railroad | + 67 | + 68
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Colonial Heights
Maps are available for inspection at 202 James Avenue, Colonial Heights, VA 23834.
Unincorporated Areas of Halifax County, North Carolina
North Carolina | Unincorporated Areas of Halifax County | Fishing Creek | Approximately 1.1 miles upstream of the Fishing Creek Tributary 2 confluence | + 60 | + 59
|  |  | Approximately 50 feet downstream of White Oak Road | + 129 | + 132
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Halifax County
Maps are available for inspection at the Halifax County Office, 15 West Pittsylvania Street, Halifax, NC 27839.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Osceola County, Florida, and Incorporated Areas
Bass Slough (Lower Reach) | Approximately 1,211 feet downstream of County Route 525 | None | + 57 | City of Kissimmee, Unincorporated Areas of Osceola County.
| Approximately 0.6 mile upstream of State Route 530 | None | + 76
Bass Slough (Upper Reach) | Approximately 1,863 feet downstream of the Bass Slough Tributary confluence | None | + 79 | City of Kissimmee, Unincorporated Areas of Osceola County.
| Approximately 337 feet upstream of Florida Parkway | None | + 80
Bass Slough Tributary | At the Bass Slough (Upper Reach) confluence | None | + 79 | Unincorporated Areas of Osceola County.
| Approximately 0.4 mile upstream of the Bass Slough (Upper Reach) confluence | None | + 79
Clay Hole Pond | Entire shoreline | None | + 66 | Unincorporated Areas of Osceola County.
Courthouse Pond | Entire shoreline | None | + 68 | Unincorporated Areas of Osceola County.
Eagle Pond | Entire shoreline | None | + 65 | Unincorporated Areas of Osceola County.
East City Canal Tributary 1 | At the upstream side of Vine Street | + 65 | + 66 | City of Kissimmee.
| Approximately 637 feet upstream of Vine Street | + 65 | + 66
Lake Marian | Entire shoreline | None | + 59 | Unincorporated Areas of Osceola County.
Multiple Ponding Areas | Area bound by San Remo Road to the north and east, Cypress Parkway to the south, and Marigold Avenue to the west | None | + 69 | Unincorporated Areas of Osceola County.
Multiple Ponding Areas | Area bound by Florida's Turnpike to the north and east and State Route 523 to the south and west | None | + 65 | City of Kissimmee.
Multiple Ponding Areas | Area approximately 0.8 mile northwest of the intersection of Brandon Lane and County Route 523, bound by Williams Road to the north, U.S. Route 441 to the east, and Florida's Turnpike to the south and west | None | + 69 | Unincorporated Areas of Osceola County.
Multiple Ponding Areas | Area bound by County Route 523 to the north, U.S. Route 441 to the east, Hayman Ranch Road to the south, and Florida's Turnpike to the west | None | + 69 | Unincorporated Areas of Osceola County.
Multiple Ponding Areas | Area approximately 2.4 miles north of the intersection of 3rd Street and 4th Avenue, bound by Williams Road to the north, U.S. Route 441 to the east, and Florida's Turnpike to the south and west | None | + 67 | Unincorporated Areas of Osceola County.
Otter Pond | Entire shoreline | None | + 69 | Unincorporated Areas of Osceola County.
Ponding Area | Area bound by West Orange Street to the north, North Main Street to the east, Sumner Street to the south, and U.S. Routes 17/92 to the west | + 65 | + 66 | Unincorporated Areas of Osceola County.
Ponding Area | Area bound by Pleasant Hill Road to the north, Florida's Turnpike to the east, and Scrub Jay Trail to the south and west | None | + 64 | Unincorporated Areas of Osceola County.
Ponding Area | Area approximately 0.9 mile east of the intersection of Martigues Drive and Amiens Road, bound by West Southport Road to the north, Florida's Turnpike to the east, and Scrub Jay Trail to the south and west | None | + 63 | Unincorporated Areas of Osceola County.
Ponding Area | Area bound by Amiens Road to the north and east, Chestnut Street to the south, and Bordeaux Road to the west | None | + 62 | Unincorporated Areas of Osceola County.
Ponding Area | Area approximately 0.6 mile east of the intersection of Saint Michel Way and Amiens Road, bound by West Southport Road to the north, Florida's Turnpike to the east, and Scrub Jay Trail to the south and west | None | + 62 | Unincorporated Areas of Osceola County.
Ponding Area | Area bound by Old Pleasant Hill Road to the north, Scrub Jay Trail to the east, and the Polk County boundary to the south and west | None | + 60 | Unincorporated Areas of Osceola County.
Ponding Area | Area bound by Chestnut Street to the north, Scrub Jay Trail to the east, and the Polk County boundary to the south and west | None | + 63 | Unincorporated Areas of Osceola County.
Ponding Area | Area approximately 2.2 miles north of the intersection of Coulter Drive and County Route 523, bound by Williams Road to the north, U.S. Route 441 to the east, and Florida's Turnpike to the south and west | None | + 66 | Unincorporated Areas of Osceola County/
Unnamed Connecting Channel downstream of Clay Hole Pond | Just upstream of Eagle Pond | None | + 65 | Unincorporated Areas of Osceola County/
| Just downstream of Clay Hole Pond | None | + 66
Unnamed Connecting Channel downstream of Eagle Pond | Approximately 0.6 mile downstream of Eagle Pond | None | + 65 | Unincorporated Areas of Osceola County.
| Just downstream of Eagle Pond | None | + 65
Unnamed Connecting Channel upstream of Lake Marian | Just upstream of Lake Marian | None | + 59 | Unincorporated Areas of Osceola County.
| Approximately 0.4 mile upstream of Lake Marian | None | + 65
Unnamed Connecting Channel upstream of Lake Marian | Just upstream of Lake Marian | None | + 59 | Unincorporated Areas of Osceola County.
| Approximately 1.0 mile upstream of Lake Marian | None | + 69
Unnamed Flooding Area upstream of Lake Marian | Just upstream of Lake Marian | None | + 59 | Unincorporated Areas of Osceola County.
| Approximately 0.5 mile upstream of Lake Marian | None | + 65
WPA Canal Tributary 1 | Approximately 1,612 feet upstream of the WPA Canal confluence | None | + 71 | City of St. Cloud, Unincorporated Areas of Osceola County.
| Approximately 1.6 miles upstream of Snail Kite Avenue | None | + 75
WPA Canal Tributary 1-1 | At the WPA Canal Tributary 1 confluence | None | + 75 | City of St. Cloud, Unincorporated Areas of Osceola County.
| Approximately 0.7 mile upstream of the WPA Canal Tributary 1 confluence | None | + 75
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Kissimmee
Maps are available for inspection at City Hall, Engineering Department, Suite 301, 101 North Church Street, Kissimmee, FL 34741.
City of St. Cloud
Maps are available for inspection at City Hall, Public Works Department, Building A, 2nd Floor, 1300 9th Street, St. Cloud, FL 34769.
Unincorporated Areas of Osceola County
| Maps are available for inspection at the Osceola County Stormwater Section, 1 Courthouse Square, Suite 1400, Kissimmee, FL 34741.

(Catalog of Federal Domestic Assistance No. 97.022, “Flood Insurance.”)

Dated: June 10, 2011.
Sandra K. Knight,
Deputy Federal Insurance and Mitigation Administrator, Mitigation, Department of Homeland Security, Federal Emergency Management Agency.

[FR Doc. 2011-15620 Filed 6-21-11; 8:45 am]

BILLING CODE 9110-12-P